DEPARTMENT OF ENERGY

Federal Energy Regulatory Commission

[Project No. 710]

Wolf River Hydro Limited Partnership; Notice of Designation of Certain Commission; Personnel as Non-Decisional

August 16, 2005.

Commission staff members Lon Crow (Office of Energy Projects; lon.crow@ferc.gov, 202-502-8749) and Elizabeth Molloy (Office of the General Counsel; elizabeth.molloy@ferc.gov, 202-502-8771) are assigned to review and discuss with parties the provisions of a draft settlement agreement for the Shawano Project. The parties involved in the settlement process wish to complete a settlement agreement to resolve the pending court appeal of the license that was issued in 1997.

As non-decisional staff, Mr. Crow and Ms. Molloy will not participate in an advisory capacity in the Commission's review of any resulting offer of settlement or settlement agreement, or deliberations concerning the disposition of any license amendment application addressing the substance of the settlement agreement once it is filed for the project.

Different Commission advisory staff will be assigned to review any offer of settlement or settlement agreement, and process the amendment application, including providing advice to the Commission with respect to the agreement and application. Non-decisional staff and advisory staff will be prohibited from communicating with one another concerning this settlement agreement once filed and any related amendment application for the project.

Magalie R. Salas,
Secretary.

[FR Doc. E5-4568 Filed 8-22-05; 8:45 am]

BILLING CODE 6717-01-P